DEPARTMENT OF THE INTERIOR

National Park Service

[NPS-WASO-NAGPRA-NPS0032318; PPWOCRADN0-PCU00RP14.R50000]

Notice of Inventory Completion: University of Pennsylvania Museum of Archaeology and Anthropology, Philadelphia, PA

AGENCY: National Park Service, Interior.

ACTION: Notice.

SUMMARY: The University of Pennsylvania Museum of Archaeology and Anthropology has completed an inventory of human remains, in consultation with the appropriate Indian Tribes or Native Hawaiian organizations, and has determined that there is a cultural affiliation between the human remains and present-day Indian Tribes or Native Hawaiian organizations. Lineal descendants or representatives of any Indian Tribe or Native Hawaiian organization not identified in this notice that wish to request transfer of control of these human remains should submit a written request to the University of Pennsylvania Museum of Archaeology and Anthropology. If no additional requestors come forward, transfer of control of the human remains to the lineal descendants, Indian Tribes, or Native Hawaiian organizations stated in this notice may proceed.

DATES: Lineal descendants or representatives of any Indian Tribe or Native Hawaiian organization not identified in this notice that wish to request transfer of control of these human remains should submit a written request with information in support of the request to the University of Pennsylvania Museum of Archaeology and Anthropology at the address in this notice by August 23, 2021.

FOR FURTHER INFORMATION CONTACT: Dr. Christopher Woods, Williams Director, University of Pennsylvania Museum of Archaeology and Anthropology, 3260 South Street, Philadelphia, PA 19104-6324, telephone (215) 898-4050, email director@pennmuseum.org.

SUPPLEMENTARY INFORMATION: Notice is here given in accordance with the Native American Graves Protection and Repatriation Act (NAGPRA), 25 U.S.C. 3003, of the completion of an inventory of human remains under the control of the University of Pennsylvania Museum of Archaeology and Anthropology, Philadelphia, PA. The human remains were removed from unknown sites in Muskogee County, OK; Philadelphia County, PA; Burlington County, NJ; Madison County, IN and other areas in the United States.

This notice is published as part of the National Park Service's administrative responsibilities under NAGPRA, 25 U.S.C. 3003(d)(3). The determinations in this notice are the sole responsibility of the museum, institution, or Federal agency that has control of the Native American human remains. The National Park Service is not responsible for the determinations in this notice.

Consultation

A detailed assessment of the human remains was made by the University of Pennsylvania Museum of Archaeology and Anthropology professional staff in consultation with representatives of the Delaware Nation, Oklahoma; Delaware Tribe of Indians; and the Stockbridge Munsee Community, Wisconsin (hereafter referred to as “The Tribes”).

History and Description of the Remains

Sometime prior to 1839, human remains representing, at minimum, one individual [catalog number 97-606-568] were removed from an unknown location in the United States by Mr. Witmer or an unknown 3rd party. Mr. Witmer transferred the human remains to Dr. Samuel G. Morton (b. 1799-d. 1851) who, by 1839, had accessioned them into his collection. The human remains belong to a female individual between 30 and 40 years of age. No known individual was identified. No associated funerary objects are present.

Between 1832 and March of 1834, human remains representing, at minimum, one individual [catalog number 97-606-40] were obtained by Dr. Zina Pitcher (b. 1797-d. 1872) who, at that time, was serving as the Army surgeon at Fort Gibson, in Muskogee County, Oklahoma. Dr. Pitcher transferred the human remains to Dr. Samuel G. Morton who, by 1839, had accessioned them into his collection. The human remains belong to a female between 35 and 50 years of age. Archival documents indicate that she was from a “little colony on the Neosho River, near Fort Gibson.” No known individual was identified. No associated funerary objects are present.

Between 1838 and 1843, human remains representing, at minimum, one individual [catalog number 97-606-1264] were removed from an unknown location in Indiana by Dr. Edwin Fussell [b. 1799-d. 1851], while he was living in Pendleton, Madison County, Indiana. By 1849, Dr. Fussell had transferred the human remains to Dr. Samuel G. Morton, who accessioned them into his collection. The human remains belong to a female between 40 and 50 years of age. Historical, published documents indicate she had been “massacred by the whites at a settlement on White River, Indiana.” No known individual was identified. No associated funerary objects are present.

In 1847, human remains representing, at minimum, one individual [catalog number 97-606-1263] were removed from a Native cemetery in the Port Richmond neighborhood of Philadelphia, Philadelphia County, PA, by Mr. Isaac Paschall Morris [b. 1803-d. 1869]. By 1849, Mr. Morris had transferred the human remains to Dr. Samuel G. Morton, who accessioned them into his collection. The human remains belong to a probable female between 30 and 40 years of age. No known individual was identified. No associated funerary objects are present.

Sometime prior to 1839, human remains representing, at minimum, one individual [catalog number 97-606-418] were found near the bank of the Delaware River in New Jersey, about four miles above Burlington. According to historical, published information, the decedent had been buried in a seated position together with other individuals and associated objects. By 1839, Dr. Edward Swain (d. 1839) had transferred the human remains to Dr. Morton, who accessioned them into his collection. The human remains belong to a female about 50 years of age. No known individual was identified. No associated funerary objects are present.

Sometime prior to 1852, human remains representing, at minimum, two individuals [catalog numbers 97-606-205 and 97-606-206] were removed from an unidentified street in Philadelphia, Philadelphia County, PA, by Dr. George P. Olivier [b. 1824-d. 1884]. The human remains were transferred to the Academy of Natural Sciences of Philadelphia (today the Academy of Natural Sciences of Drexel University) on November 9, 1852, where they were added to Dr. Samuel G. Morton's collection. The human remains belong to female between 25 and 35 years of age and female about 50 years of age. No known individual was identified. No associated funerary objects are present.

In 1853, Dr. Morton's collection, including the human remains of the seven above listed individuals, was purchased from his estate and formally presented to the Academy of Natural Sciences of Philadelphia.

Sometime prior to 1857, human remains representing, at minimum, three individuals [catalog numbers 97-606-115, 97-606-118, and 97-606-1265] were removed from unknown locations by unidentified individuals. The human remains belong to a female individual between 25 and 30 years of age, a female individual about 50 years of age, and a female individual between 40 and 50 years of age. By 1857, the human remains had been transferred to the Academy of Natural Sciences and added to the Morton collection.

In 1966, the Morton collection, including the human remains of all ten above listed individuals, was loaned to the University of Pennsylvania Museum of Archaeology and Anthropology. In 1997, it was formally gifted to the University of Pennsylvania.

The human remains have been identified as Native American based on specific cultural and geographic attributions contained in the museum's records. Collector records, museum documentation, and published sources (Morton 1839, 1840, 1844, 1849; Meigs 1857) all identify the human remains as Lenape or Delaware. The Lenape (Delaware) are represented by The Tribes.

Determinations Made by the University of Pennsylvania Museum of Archaeology and Anthropology

Officials of the University of Pennsylvania Museum of Archaeology and Anthropology have determined that:

• Pursuant to 25 U.S.C. 3001(9), the human remains described in this notice represent the physical remains of 10 individuals of Native American ancestry.

• Pursuant to 25 U.S.C. 3001(2), there is a relationship of shared group identity that can be reasonably traced between the Native American human remains and The Tribes.

Additional Requestors and Disposition

Lineal descendants or representatives of any Indian Tribe or Native Hawaiian organization not identified in this notice that wish to request transfer of control of these human remains should submit a written request with information in support of the request to Dr. Christopher Woods, Williams Director, University of Pennsylvania Museum of Archaeology and Anthropology, 3260 South Street, Philadelphia, PA 19104-6324, telephone (215) 898-4050, email director@pennmuseum.org, by August 23, 2021. After that date, if no additional requestors have come forward, transfer of control of the human remains to The Tribes may proceed.

The University of Pennsylvania Museum of Archaeology and Anthropology is responsible for notifying The Tribes that this notice has been published.

Dated: July 14, 2021.
Melanie O'Brien,
Manager, National NAGPRA Program.

[FR Doc. 2021-15564 Filed 7-21-21; 8:45 am]

BILLING CODE 4312-52-P